DEPARTMENT OF ENERGY

10 CFR Parts 429 and 431

[EERE-2017-BT-TP-0055]

Energy Conservation Program: Test Procedure for Distribution Transformers

AGENCY: Office of Energy Efficiency and Renewable Energy, Department of Energy.

ACTION: Request for information; re-opening of public comment period.

SUMMARY: On September 22, 2017, the U.S. Department of Energy (DOE) published a request for information (RFI) pertaining to the test procedures for distribution transformers. The RFI provided an opportunity for submitting written comments, data, and information by October 23, 2017. This document announces that the period for submitting comments on the RFI is to be re-opened until November 6, 2017.

DATES: The comment period for the RFI, published on September 22, 2017 (82 FR 44347), is re-opened until November 6, 2017. DOE will accept written comments, data, and information in response to the RFI received no later than November 6, 2017.

ADDRESSES: Interested persons are encouraged to submit comments by any of the following methods:

• Federal eRulemaking Portal: www.regulations.gov. Follow the instructions for submitting comments.

• Email: DistributionTransformers2017TP055@ee.doe.gov. Include docket number EERE-2017-BT-TP-0055 in the subject line of the message. Submit electronic comments in WordPerfect, Microsoft Word, PDF, or ASCII file format, and avoid the use of special characters or any form of encryption.

• Postal Mail: Appliance and Equipment Standards Program, U.S. Department of Energy, Building Technologies Office, Mailstop EE-5B, 1000 Independence Avenue SW., Washington, DC 20585-0121. If possible, please submit all items on a compact disc (CD), in which case it is not necessary to include printed copies.

• Hand Delivery/Courier: Appliance and Equipment Standards Program, U.S. Department of Energy, Building Technologies Office, 950 L'Enfant Plaza SW., 6th Floor, Washington, DC 20024. Telephone: (202) 287-1445. If possible, please submit all items on a CD, in which case it is not necessary to include printed copies.

No telefacsimilies (faxes) will be accepted. For detailed instructions on submitting comments and additional information on the rulemaking process, see section III of the RFI published on September 22, 2017.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket Web page can be found at http://www.regulations.gov/#!docketDetail;D=EERE-2017-BT-TP-0055. The docket Web page will contain simple instructions on how to access all documents, including public comments, in the docket.

FOR FURTHER INFORMATION CONTACT:

Mr. Jeremy Dommu, U.S. Department of Energy, Office of Energy Efficiency and Renewable Energy, Building Technologies Program, EE-5B 1000 Independence Avenue SW., Washington, DC 20585-0121. Telephone: (202) 586-9870. Email: ApplianceStandardsQuestions@ee.doe.gov.

Mary Greene, U.S. Department of Energy, Office of the General Counsel, GC-33, 1000 Independence Avenue SW., Washington, DC 20585-0121. Telephone: (202) 586-1817. Email: mary.greene@hq.doe.gov.

For further information on how to submit a comment, review other public comments and the docket, contact the Appliance and Equipment Standards Program staff at (202) 287-1445 or by email: ApplianceStandardsQuestions@ee.doe.gov.

SUPPLEMENTARY INFORMATION: DOE published a RFI pertaining to the test procedure for distribution transformers on September 22, 2017. 82 FR 44347. The RFI initiated a data collection process to consider whether to amend DOE's test procedures for distribution transformers. DOE requested written comment, data, and information pertaining to these test procedures by October 23, 2017.

The National Electrical Manufacturers Association (NEMA), an interested party in the matter, requested a two-week extension of the public comment period for the RFI published in the Federal Register on October 5, 2017. (NEMA, No. 4, at p. 1)

DOE believes that re-opening the comment period to allow additional time for interested parties to submit comments is appropriate. Therefore, DOE is re-opening the comment period until November 6, 2017 to provide interested parties additional time to prepare and submit comments. Comments received between the original October 23 closing date and the new November 6 closing date are considered timely filed. Therefore, individuals who submitted late comments during the original comment period do not need to re-submit comments.

Issued in Washington, DC, on October 19, 2017.
David Nemtzow,
Director, Building Technologies Office, Energy Efficiency and Renewable Energy.

[FR Doc. 2017-23635 Filed 10-30-17; 8:45 am]

BILLING CODE 6450-01-P